DEPARTMENT OF TRANSPORTATION

Federal Railroad Administration

[Docket No. FRA-2009-0001-N-18]

Information Collection

AGENCY: Federal Railroad Administration, DOT.

ACTION: Notice and request for comments.

SUMMARY: In compliance with the Paperwork Reduction Act of 1995 (44 U.S.C. 3501 et seq.), this notice announces that the Information Collection Requirement (ICR) abstracted below has been forwarded to the Office of Management and Budget (OMB) for review and comment. The ICR describes the nature of the information collection and its expected burden. The Federal Register notice with a 60-day comment period soliciting comments on the following collection of information was published on May 21, 2009 (74 FR 23927).

DATES: Comments must be submitted on or before September 4, 2009.

FOR FURTHER INFORMATION CONTACT: Mr. Robert Brogan, Office of Safety, Planning and Evaluation Division, RRS-21, Federal Railroad Administration, 1200 New Jersey Ave., SE., 3rd Floor, Mail Stop 25, Washington, DC 20590 (telephone: (202) 493-6292), or Ms. Nakia Jackson, Office of Information Technology, RAD-20, Federal Railroad Administration, 1200 New Jersey Ave., SE., 3rd Floor, Mail Stop 35, Washington, DC 20590 (telephone: (202) 493-6073). (These telephone numbers are not toll-free.)

SUPPLEMENTARY INFORMATION: The Paperwork Reduction Act of 1995 (PRA), Public Law 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On May 21, 2009, FRA published a 60-day notice in the Federal Register soliciting comment on this ICR that the agency was seeking OMB approval. 74 FR 23927. FRA received one comment—a letter—in response to this notice.

The joint letter came from Mr. James Stem, National Legislative Director, United Transportation Union (UTU), and John Tolman, President, Brotherhood of Locomotive Engineers and Trainmen (BLET). The UTU represents 125,000 active and retired railroad, bus, and mass transit workers in the United States and Canada. The BLET is a rail labor organization that was founded as part of the Teamsters Union and represents railroad engineers and railroad operating employees in the United States and Canada. In their extensive letter of support, Mr. Stem and Mr. Tolman stated the following:

Congress assigned FRA to prescribe regulations and issue orders to establish hours of service requirements for train employees engaged in commuter rail and passenger services. Those regulations may differ from the requirements of the Rail Safety Improvement Act (RSIA) requirements for Hours of Service (HOS) applicable to train employees engaged in freight service. In establishing this exception, Congress required FRA to consider scientific and medical research related to fatigue and fatigue abatement, scheduling practices and operating practices that improve safety or reduce employee fatigue. A significant body of scientific and medical research already exists. Also, the commuter and passenger services current scheduling and operating practices in use today mitigate fatigue substantially; so much so that only minor changes to the existing HOS regulations are necessary.

The “Fatigue Avoidance Scheduling Tool” (FAST) is a comprehensive and detailed analysis of how wakefulness affects fatigue and an individual's effectiveness. The FAST model is based upon the SAFTE fatigue assessment tool which was developed for the U.S. Air Force and the U.S. Army. For a fatigue assessment tool to be useful, it must establish how fatigue impacts effectiveness and at which point reduced effectiveness might compromise safety. The FAST model has been validated for use in predicting effectiveness in freight railroad service, and we believe it can function as an appropriate tool to compare work schedules against a baseline representing the maximum schedule that can be worked under the statute. The current model is programmed to reflect sleep patterns in a workforce that reports for duty on call, and will need to be adjusted to reflect the different sleep patterns of workers with a known reporting time. We believe such an adjustment would permit the use of the FAST model to predict effectiveness among commuter and passenger train employees * * *

The medical research supports the conclusion that predictable sleep patterns can significantly diminish the fatiguing effect long hours have on employees. While not a panacea, predictability in work schedules certainly provides the employees with the opportunity to plan their rest. Individuals without regular work hours may find themselves un-rested if they have been at a doctor's appointment or attending to an elderly parent or child when a call for duty comes. Since the commuter/passenger services serve the public their operations must be advertised to the general public. Train departures, and therefore work schedules, are highly predictable * * *

Obviously adequate levels of manpower are essential for the railroads to properly execute the operation of the scheduled service. Recently, the country has seen a significant increase in ridership in the commuter/passenger operations. With the current administration's High Speed Rail initiative there is every reason to believe that this trend will continue for the foreseeable future. Coupled with the natural attrition of an aging workforce, manpower will be stressed for years to come.

Railroads must develop some objective means of determining an appropriate and safe level of manpower staffing. One commuter operation has chronic manpower shortages. So much so that the overwhelming majority of its regular assignments and all of its extra list assignments are required to work 6 days. It utilizes a supplementary volunteer extra list of regularly assigned employees (working their only day off) 7 days per week sometimes for weeks in a row simply to address its regular operation.

A fair assessment of operating and scheduling practices will minimize the impact of fatigue on railroad operations, the employees and the general public that use the systems. Through the RSIA Congress instructed the secretary to implement regulations to reduce employee fatigue and improve safety. Fatigue can be effectively mitigated by addressing it before it occurs. Proper manpower staffing and construction of assignments are essential to ensure that outcome. By addressing fatigue at its base level (daily) through the use quality restorative sleep from napping in conducive sleep environments and predictable, regular home sleep patterns the industry will have effectively reduced acute, cumulative and chronic fatigue from wakefulness to a safe level.

FRA received no other comments in response to this notice. Accordingly, DOT announces that these information collection activities have been evaluated and certified under 5 CFR 1320.5(a) and forwarded to OMB for review and approval pursuant to 5 CFR 1320.10(a).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the information collection requirement (ICR) and the expected burden for the ICR being submitted for clearance by OMB as required by the PRA.

Title: Work Schedules and Sleep Patterns of Train Crews in Commuter Passenger Service.

OMB Control Number: 2130-New.

Type of Request: Regular Approval of a New Collection of Information.

Affected Public: Commuter Railroad Passenger Service Train Crews.

Abstract: The Railroad Safety Improvement Act of 2008 (RSIA) grants the Federal Railroad Administration (FRA) the authority to prescribe regulations “* * *Governing the Hours of Service of Train Employees of Commuter and Intercity Passenger Railroad Carriers.” (section 21109). This section of the law provides that

Such regulations and orders may address railroad operating and scheduling practices, including unscheduled duty calls, communications during time off duty, and time spent waiting for deadhead transportation or in deadhead transportation from a duty assignment to the place of final release, that could affect employee fatigue and railroad safety.

Furthermore, the regulations shall consider

* * * scientific and medical research related to fatigue and fatigue abatement, railroad scheduling and operating practices that improve safety or reduce employee fatigue, a railroad's use of new or novel technology intended to reduce or eliminate human error, the variations in freight and passenger railroad scheduling practices and operating conditions, the variations in duties and operating conditions for employees subject to this chapter, a railroad's required or voluntary use of fatigue management plans covering employees subject to this chapter, and any other relevant factors.

The purpose of the research addressed under this proposed study is to provide FRA with the necessary information to meet the requirements of RSIA as noted above.

The proposed study has two primary purposes:

• To document and characterize the work/rest schedules and sleep patterns of train crews in commuter passenger service

• To examine the relationship between these schedules and level of alertness/fatigue for the individuals who work these schedules.

The intent is to report results in aggregate, not by railroad.

The study will seek to describe the work and sleep patterns for this group of railroad employees. It will also obtain subjective ratings from participants of their alertness/sleepiness on both work and non-work days. Data collection will be through the use of a daily diary or log as well as a brief background questionnaire for each participant. Analysis of the diary data will allow the FRA to assess whether or not there are any work-related fatigue issues. The proposed study will provide a defensible and definitive estimate of the work/rest cycle parameters and fatigue in this group of railroad employees that will inform FRA regulatory policy and action.

Form Number(s): FRA F 6180.130; FRA F 6180.131

Annual Estimated Burden Hours: 930 hours

Addressee: Send comments regarding this information collection to the Office of Information and Regulatory Affairs, Office of Management and Budget, 725 Seventeenth Street, NW., Washington, DC, 20503, Attention: FRA Desk Officer. Comments may also be sent via e-mail to OMB at the following address: oira_submissions@omb.eop.gov

Comments are invited on the following: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC on July 29, 2009.
Donna Alwine,
Acting Director, Office of Financial Management, Federal Railroad Administration.

[FR Doc. E9-18740 Filed 8-4-09; 8:45 am]

BILLING CODE 4910-06-P